DEPARTMENT OF TRANSPORTATION

Federal Aviation Administration

14 CFR Part 39

[Docket No. FAA-2006-23579; Directorate Identifier 2006-CE-02-AD; Amendment 39-14658; AD 2006-13-05]

RIN 2120-AA64

Airworthiness Directives; Pacific Aerospace Corporation Ltd. 750XL Airplanes

AGENCY: Federal Aviation Administration (FAA), Department of Transportation (DOT).

ACTION: Final rule.

SUMMARY: We are adopting a new airworthiness directive (AD) that supersedes AD 2005-26-53, which applies to certain Pacific Aerospace Corporation Ltd. (PAC) 750XL airplanes. AD 2005-26-53 currently requires you to insert text into the Limitations Section of the Airplane Flight Manual (AFM) that reduces the maximum takeoff weight from 7,500 pounds to 7,125 pounds. This AD results from mandatory continuing airworthiness information (MCAI) issued by the airworthiness authority for New Zealand and the FAA's decision that the actions correct an unsafe condition. Consequently, this AD would require you to remove rivets that have not been fully age hardened and replace them with bolts, washers, and nuts in specific locations where reduction in rivet strength affects overall structural capability. This AD retains the actions of the previous AD until the rivets are replaced with the bolts, washers, and nuts. We are issuing this AD so that wing ultimate load requirements are met. If wing ultimate load requirements are not met, wing failure could result with consequent loss of control of the airplane.

DATES: This AD becomes effective on July 31, 2006.

As of July 31, 2006, the Director of the Federal Register approved the incorporation by reference of certain publications listed in the regulation.

ADDRESSES: For service information identified in this AD, contact Pacific Aerospace Corporation Ltd., Hamilton Airport, Private Bag HN 3027, Hamilton, New Zealand; telephone: (64) 7-843-6144; facsimile: (64) 7-843-6134.

To view the AD docket, go to the Docket Management Facility; U.S. Department of Transportation, 400 Seventh Street, SW., Nassif Building, Room PL-401, Washington, DC 20590-001 or on the Internet at http://dms.dot.gov. The docket number is FAA-2006-23579; Directorate Identifier 2006-CE-02-AD.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

On March 3, 2006, we issued a proposal to amend part 39 of the Federal Aviation Regulations (14 CFR part 39) to include an AD that would apply to certain Pacific Aerospace Corporation Ltd. (PAC) 750XL airplanes. This proposal was published in the Federal Register as a notice of proposed rulemaking (NPRM) on March 10, 2006 (71 FR 12305). The NPRM proposed to supersede AD 2005-26-53, Amendment 39-14451 (71 FR 2453, January 17, 2006), and require you to remove rivets that have not been fully age hardened and replace them with bolts, washers, and nuts in specific locations where reduction in rivet strength affects overall structural capability. The proposed AD would retain the airplane weight AFM Limitations requirement of AD 2005-26-53 until the rivets are replaced with the bolts, washers, and nuts.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 7 airplanes in the U.S. registry.

We estimate the following costs to do the replacement:

Labor cost | Parts cost | Total cost per airplane | Total cost on U.S. operators
32 work-hours × $80 per hour = $2,560 | $519 | $3,079 | $21,553

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-23579; Directorate Identifier 2006-CE-02-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-26-53, Amendment 39-14451 (71 FR 2453, January 17, 2006), and by adding the following new airworthiness directive:

2006-13-05 Pacific Aerospace Corporation Ltd.: Amendment 39-14658; Docket No. FAA-2006-23579; Directorate Identifier 2006-CE-02-AD.

Effective Date

(a) This AD becomes effective on July 31, 2006.

Affected ADs

(b) This AD supersedes AD 2005-26-53; Amendment 39-14451.

Applicability

(c) This AD affects Model 750XL airplanes, serial numbers 101, 102, 104 through 120, and 125, that are certificated in any category.

Unsafe Condition

(d) This AD is the result of some critical rivets on the wing not being fully age-hardened and being installed in specific locations where reduction in rivet strength reduces wing strength. The actions specified in this AD are intended to ensure wing ultimate load requirements are met. If wing ultimate load requirements are not met, wing failure could result with consequent loss of control of the airplane.

Compliance

(e) To address this problem, you must do the following:

Actions | Compliance | Procedures
(1) Insert the following information into the Limitations Section of the Airplane Flight Manual (AFM). You may do this by inserting a copy of this AD into the Limitations Section of the AFM “The maximum takeoff weight is reduced from 7,500 pounds to 7,125 pounds” | Before further flight after January 16, 2006 (the effective date of AD 2005-26-53), except for those who received emergency AD 2005-26-53, issued December 22, 2005, unless already done. Emergency AD 2005-26-53 continued the requirements of AD 2005-26-53 and became effective immediately upon receipt | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).
(2) Remove rivets, part number (P/N) MS20470 DD6, and replace with bolts, P/N NAS 6203-7X or NAS 6203-6X; washers, P/N AN960-10; and nuts, P/N MS21044N3 | Within 100 hours time-in-service after the effective date of this AD | Following Pacific Aerospace Corporation Ltd. Service Bulletin PACSB/XL/018 Issue 3, issued December 23, 2005, and amended January 16, 2006.
(3) Remove the restrictive information from the Limitations Section of the AFM that you were required to insert in paragraph (e)(1) of this AD | After doing the action required in paragraph (e)(2) of this AD | The owner/operator holding at least a private pilot certificate as authorized by section 43.7 of the Federal Aviation Regulations (14 CFR 43.7) may do the flight manual changes requirement of this AD.

Alternative Methods of Compliance (AMOCs)

(f) The Manager, Standards Office, Small Airplane Directorate, FAA, ATTN: Karl Schletzbaum, Aerospace Engineer, FAA, Small Airplane Directorate, 901 Locust, Room 301, Kansas City, Missouri 64106; telephone: (816) 329-4146; facsimile: (816) 329-4090 has the authority to approve alternative methods of compliance (AMOCs) for this AD, if requested using the procedures found in 14 CFR 39.19.

(g) AMOCs approved for AD 2005-26-53 are approved for this AD.

Related Information

(h) New Zealand AD No. DCA/750XL/7A, dated December 24, 2005 also addresses the subject of this AD.

Material Incorporated by Reference

(i) You must do the actions required by this AD following the instructions in Pacific Aerospace Corporation Ltd. Service Bulletin No. PACSB/XL/018 Issue 3, issued December 23, 2005, amended January 16, 2006. The Director of the Federal Register approved the incorporation by reference of this service bulletin in accordance with 5 U.S.C. 552(a) and 1 CFR part 51. To get a copy of this service information, contact Pacific Aerospace Corporation Ltd., Hamilton Airport, Private Bag HN3027, Hamilton, New Zealand; telephone: (64) 7-843-6144; facsimile: (64) 7-843-6134. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-23579; Directorate Identifier 2006-CE-02-AD.

Issued in Kansas City, Missouri, on June 12, 2006.
James E. Jackson,
Acting Manager, Small Airplane Directorate, Aircraft Certification Service.

[FR Doc. 06-5529 Filed 6-20-06; 8:45 am]

BILLING CODE 4910-13-P